DEPARTMENT OF COMMERCE

National Oceanic and Atmospheric Administration

50 CFR Part 622

[Docket No. 150226189-5389-02]

RIN 0648-BE91

Fisheries of the Caribbean, Gulf of Mexico, and South Atlantic; Reef Fish Fishery of the Gulf of Mexico; Red Snapper Management Measures

AGENCY: National Marine Fisheries Service (NMFS), National Oceanic and Atmospheric Administration (NOAA), Commerce.

ACTION: Final rule.

SUMMARY: NMFS implements management measures described in a framework action to the Fishery Management Plan for the Reef Fish Resources of the Gulf of Mexico (FMP) prepared by the Gulf of Mexico (Gulf) Fishery Management Council (Council). The final rule increases commercial and recreational quotas for red snapper in the Gulf of Mexico reef fish fishery for the 2015, 2016, and 2017 fishing years. Quotas for subsequent fishing years would remain at 2017 levels unless changed by future rulemaking. This rule also announces the closure dates for the red snapper recreational sector components (private angling and for-hire components) in the Gulf. The private angling component will close at 12:01 a.m., local time, June 11, 2015, and the for-hire component will close at 12:01 a.m., local time, on July 15, 2015. This rule is intended to help achieve optimum yield for the Gulf red snapper resource without increasing the risk of red snapper experiencing overfishing.

DATES: This rule is effective June 1, 2015.

ADDRESSES: Electronic copies of the 2015 Gulf red snapper framework action, which includes an environmental assessment, Regulatory Flexibility Act (RFA) analysis and a regulatory impact review, may be obtained from the Southeast Regional Office Web site at http://sero.nmfs.noaa.gov/sustainable_fisheries/gulf_fisheries/reef_fish.

FOR FURTHER INFORMATION CONTACT: Cynthia Meyer, telephone 727-824-5305; email: Cynthia.Meyer@noaa.gov.

SUPPLEMENTARY INFORMATION: NMFS and the Council manage the Gulf reef fish fishery, including red snapper, under the FMP. The Council prepared the FMP and NMFS implements the FMP through regulations at 50 CFR part 622 under the authority of the Magnuson-Stevens Fishery Conservation and Management Act (Magnuson-Stevens Act).

On April 1, 2015, NMFS published a proposed rule for the framework action and requested public comment (80 FR 17380). The proposed rule and the framework action set forth the rationale for the actions contained in this final rule. A summary of the actions implemented by this final rule is provided below.

Management Measures Contained in This Final Rule

This final rule sets the commercial and recreational quotas (equal to the commercial and recreational annual catch limit (ACLs)) and the recreational annual catch targets (ACTs) for the 2015, 2016, and 2017 fishing years for red snapper based on the acceptable biological catch levels chosen by the Council, as recommended by its Scientific and Statistical Committee, and on the current commercial and recreational allocations (51-percent commercial and 49-percent recreational). Quotas for subsequent fishing years will remain at 2017 levels unless changed by future rulemaking. All values contained in this final rule are given in round weight. For 2015, the commercial quota is set at 7.293 million lb (3.308 million kg) and the recreational quota is set at 7.007 million lb (3.178 million kg); for 2016, the commercial quota is set at 7.120 million lb (3.230 million kg) and the recreational quota is set at 6.840 million lb (3.103 million kg); and for 2017 and subsequent fishing years, the commercial quota is set at 7.007 million lb (3.178 million kg) and the recreational quota is set at 6.733 million lb (3.054 million kg).

Based on the revised recreational quotas contained in this final rule, the revised recreational ACTs for the 2015, 2016, and 2017 fishing years are as follows: 5.606 million lb (2.543 million kg) for 2015; 5.472 million lb (2.482 million kg) for 2016; and 5.384 million lb (2.442 million kg) for 2017. Recreational ACTs for subsequent fishing years will remain at 2017 levels unless changed by future rulemaking.

Implementation of Amendment 40 to the FMP established two components within the recreational sector for Gulf red snapper (a Federal charter vessel/headboat (for-hire) component and a private angling component), allocated the red snapper recreational quota and ACT between the components, and established separate seasonal closures for the two components. These component quotas and ACTs are effective through 2017. In addition, the final rule for Amendment 40 established ACLs for the commercial and recreational sectors, which are equal to the commercial and recreational quotas, respectively. The Secretary of Commerce approved Amendment 40 on April 10, 2015, and a final rule published on April 22, 2015 (80 FR 22422), effective May 22, 2015.

Based on the component allocations set in Amendment 40 and the increased recreational quotas (equal to the recreational ACLs) contained in this final rule, the resulting recreational component quotas and ACTs are as follows. The for-hire component quota and private angling component quota, respectively, are: 2.964 million lb (1.344 million kg) and 4.043 million lb (1.834 million kg) for 2015; 2.893 million lb (1.312 million kg) and 3.947 million lb (1.790 million kg) for 2016; 2.848 million lb (1.292 million kg) and 3.885 million lb (1.762 million kg) for 2017. The for-hire component ACT and private angling component ACT, respectively, are: 2.371 million lb (1.075 million kg) and 3.234 million lb (1.467 million kg) for 2015; 2.315 million lb (1.050 million kg) and 3.158 million lb (1.432 million kg) for 2016; and 2.278 million lb (1.033 million kg) and 3.108 million lb (1.410 million kg) for 2017.

Red Snapper Recreational Fishing Season

In accordance with 50 CFR 622.34(b) and 50 CFR 622.41(q)(2)(i), the red snapper recreational fishing season opens each year on June 1 and closes when the applicable component ACT is projected to be reached. To project the 2015 recreational fishing season lengths, NMFS used finalized 2014 landings data, catch rates for each state, state season lengths, as well as other information. The method used to project these season lengths can be found in SERO-LAPP-2015-04: 2015 Gulf of Mexico Red Snapper Recreational Season Length Estimates on the SERO Web site. After analysis of the information referenced above, NMFS determined that the season for the private angling component is 10 days and the season for the for-hire component is 44 days. As required by 50 CFR 622.34(b) and 50 CFR 622.41(q)(2)(i), NMFS announces the closure dates for the recreational sector components (private angling and for-hire components) in the Gulf through this final rule. NMFS opens both components on June 1 and closes the private angling component at 12:01 a.m., local time, June 11, 2015, and the for-hire component at 12:01 a.m., local time, on July 15, 2015.

Additional Changes to Codified Text

This final rule makes two administrative changes to the Gulf Individual Fishing Quota (IFQ) program regulations. In §§ 622.21 and 622.22, the Web site for the Gulf IFQ program changes from “ifq.sero.fisheries.noaa.gov” to “https://portal.southeast.fisheries.noaa.gov/cs/main.html” to align with the renaming of NMFS Web sites for all of the regions in the U.S. In § 622.21(b)(6)(ii), NMFS revises the minimum share transfer percentage for the Gulf red snapper IFQ program from “0.0001 percent” to “0.000001 percent” to align with the Gulf grouper/tilefish program minimum share transfer percentage and allows for smaller percentages of red snapper IFQ shares to be transferred. When the red snapper IFQ program was implemented in 2007, NMFS determined, based on the share cap and red snapper commercial quota, that 0.0001 percent was the appropriate minimum share transfer percentage. Because the red snapper commercial quota has been increasing, NMFS has now determined that the minimum share transfer percentage should be 0.000001 percent. This gives shareholders greater flexibility by allowing transfers of smaller increments of shares. In addition, modifying the minimum share transfer percentage for red snapper helps avoid confusion among shareholders who trade both red snapper and grouper/tilefish shares because both programs have the same minimum share transfer percentage.

Comments and Responses

During the comment period, NMFS received 20 comments, including 17 from private anglers, 1 from a recreational fishing organization, and 2 from charter fishermen. Comments pertinent to the rule unanimously supported increasing the red snapper quota and did not raise any additional issues within the scope of this rulemaking. NMFS agrees with the commenters that the quota increases are appropriate, and are in accordance with the red snapper rebuilding plan.

Many of these same commenters provided additional observations and suggestions for alternative strategies to manage the recreational red snapper harvest that were beyond the scope of the rule. The Council has considered many of the public suggestions in the past and may consider alternative management options for the recreational harvest of red snapper in the future. NMFS agrees that alternative recreational management strategies may prove to be viable options for the management of red snapper in the future; however, these comments and suggestions are beyond the scope of this rulemaking and will not be further addressed in this rule.

Classification

The Regional Administrator, Southeast Region, NMFS determined that this final rule and the framework action are necessary for the conversation and management of Gulf red snapper and are consistent with the FMP, the Magnuson-Stevens Act and other applicable law.

This final rule has been determined to be not significant for purposes of Executive Order 12866.

The Chief Counsel for Regulation of the Department of Commerce certified to the Chief Counsel for Advocacy of the Small Business Administration during the proposed rule stage that this action would not have a significant economic impact on a substantial number of small entities. The factual basis for this determination was published in the proposed rule and is not repeated here. No comments were received regarding the certification and NMFS has not received any new information that would affect its determination. As a result, neither an initial nor final regulatory flexibility analysis was required and therefore, neither was prepared.

List of Subjects in 50 CFR Part 622

Commercial, Fisheries, Fishing, Gulf of Mexico, Quotas, Recreational, Red Snapper.

Dated: April 27, 2015.
Samuel D. Rauch III,
Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.21, the third sentence in paragraph (b)(1), the second sentence in paragraph (b)(2), the last sentence in paragraph (b)(3)(i), the first sentence in paragraph (b)(3)(iii), the second sentence in paragraph (b)(3)(iv), the only sentence in paragraph (b)(5)(i)(B), the third sentence in paragraph (b)(5)(v), the second and third sentences in paragraph (b)(6)(ii), the second sentence in paragraph (b)(6)(iv), and the first sentence in paragraph (b)(10) are revised to read as follows:

§ 622.21 Individual fishing quota (IFQ) program for Gulf red snapper.

* * * * *

(b) * * *

(1) * * * An owner of a vessel with a commercial vessel permit for Gulf reef fish, who has established an IFQ account for Gulf red snapper as specified in paragraph (a)(3)(i) of this section, online via the NMFS IFQ Web site https://portal.southeast.fisheries.noaa.gov/cs/main.html, may establish a vessel account through that IFQ account for that permitted vessel. * * *

(2) * * * A dealer with a Gulf and South Atlantic dealer permit can download a Gulf IFQ dealer endorsement from the NMFS IFQ Web site. * * *

(3) * * *

(i) * * * All IFQ landings and their actual ex-vessel prices must be reported via the IFQ Web site.

* * * * *

(iii) The dealer must complete a landing transaction report for each landing of Gulf red snapper via the IFQ Web site on the day of offload, except if the fish are being trailered for transport to a dealer as specified in paragraph (b)(5)(iv) of this section (in which case the landing transaction report may be completed prior to the day of offload), and within 96 hours from the time of landing reported on the most recent landing notification, in accordance with the reporting form(s) and instructions provided on the Web site. * * *

(iv) * * * This form is available via the IFQ Web site. * * *

* * * * *

(5) * * *

(i) * * *

(B) * * * Authorized methods for contacting NMFS and submitting the report include calling IFQ Customer Service at 1-866-425-7627, completing and submitting to NMFS a landing notification provided through the VMS unit, or providing the required information to NMFS through the web-based form available on the IFQ Web site.

* * * * *

(v) * * * Proposed landing locations may be submitted online via the IFQ Web site, or by calling IFQ Customer Service at 1-866-425-7627, at any time; however, new landing locations will be approved only at the end of each calendar-year quarter. * * *

* * * * *

(6) * * *

(ii) * * * An IFQ shareholder must initiate a share transfer request by logging onto the IFQ Web site. Following the instructions provided on the IFQ Web site, the shareholder must enter pertinent information regarding the transfer request including, but not limited to, amount of shares to be transferred, which must be a minimum of 0.000001 percent; name of the eligible transferee; and the value of the transferred shares. * * *

* * * * *

(iv) * * * An IFQ account holder must initiate an allocation transfer by logging onto the IFQ Web site, entering the required information, including but not limited to, name of an eligible transferee and amount of IFQ allocation to be transferred and price, and submitting the transfer electronically. * * *

* * * * *

(10) * * * On or about January 1 each year, IFQ shareholders will be notified, via the IFQ Web site, of their IFQ share and allocation for the upcoming fishing year. * * *

* * * * *

3. In § 622.22, the third sentence in paragraph (b)(1), the second sentence in paragraph (b)(2), the last sentence in paragraph (b)(3)(i), the first sentence in paragraph (b)(3)(iii), the second sentence in paragraph (b)(3)(iv), the only sentence in paragraph (b)(5)(i)(B), the third sentence in paragraph (b)(5)(v), the second sentence in paragraph (b)(6)(ii), the second sentence in paragraph (b)(6)(iv), and the first sentence in paragraph (b)(10) are revised to read as follows:

§ 622.22 Individual fishing quota (IFQ) program for Gulf groupers and tilefishes.

* * * * *

(b) * * *

(1) * * * An owner of a vessel with a commercial vessel permit for Gulf reef fish, who has established an IFQ account for the applicable species, as specified in paragraph (a)(3)(i) of this section, online via the NMFS IFQ Web site https://portal.southeast.fisheries.noaa.gov/cs/main.html, may establish a vessel account through that IFQ account for that permitted vessel. * * *

(2) * * * A dealer with a Gulf and South Atlantic dealer permit can download a Gulf IFQ dealer endorsement from the NMFS IFQ Web site. * * *

(3) * * *

(i) * * * All IFQ landings and their actual ex-vessel prices must be reported via the IFQ Web site.

* * * * *

(iii) The dealer must complete a landing transaction report for each landing of Gulf groupers or tilefishes via the IFQ Web site on the day of offload, except if the fish are being trailered for transport to a dealer as specified in paragraph (b)(5)(iv) of this section (in which case the landing transaction report may be completed prior to the day of offload), and within 96 hours from the time of landing reported on the most recent landing notification, in accordance with the reporting form(s) and instructions provided on the Web site. * * *

(iv) * * * This form is available via the IFQ Web site. * * *

* * * * *

(5) * * *

(i) * * *

(B) * * * Authorized methods for contacting NMFS and submitting the report include calling IFQ Customer Service at 1-866-425-7627, completing and submitting to NMFS a landing notification provided through the VMS unit, or providing the required information to NMFS through the web-based form available on the IFQ Web site.

* * * * *

(v) * * * Proposed landing locations may be submitted online via the IFQ Web site, or by calling IFQ Customer Service at 1-866-425-7627, at any time; however, new landing locations will be approved only at the end of each calendar-year quarter. * * *

* * * * *

(6) * * *

(ii) * * * An IFQ shareholder must initiate a share transfer request by logging onto the IFQ Web site. * * *

* * * * *

(iv) * * * An IFQ account holder must initiate an allocation transfer by logging onto the IFQ Web site, entering the required information, including but not limited to, the name of an eligible transferee and amount of IFQ allocation to be transferred and price, and submitting the transfer electronically. * * *

* * * * *

(10) * * * On or about January 1 each year, IFQ shareholders will be notified, via the IFQ Web site, of their IFQ shares and allocations, for each of the five share categories, for the upcoming fishing year. * * *

* * * * *

4. In § 622.39, paragraphs (a)(1)(i) and (a)(2)(i) are revised to read as follows:

§ 622.39 Quotas.

* * * * *

(a) * * *

(1) * * *

(i) Commercial quota for red snapper. (A) For fishing year 2015—7.293 million lb (3.308 million kg), round weight.

(B) For fishing year 2016—7.120 million lb (3.230 million kg), round weight.

(C) For fishing year 2017 and subsequent fishing years—7.007 million lb (3.178 million kg), round weight.

* * * * *

(2) * * *

(i) Recreational quota for red snapper. (A) Total recreational quota (Federal charter vessel/headboat and private angling component quotas combined).

(1) For fishing year 2015—7.007 million lb (3.178 million kg), round weight.

(2) For fishing year 2016—6.840 million lb (3.103 million kg), round weight.

(3) For fishing year 2017 and subsequent fishing years—6.733 million lb (3.054 million kg), round weight.

(B) Federal charter vessel/headboat component quota. The Federal charter vessel/headboat component quota applies to vessels that have been issued a valid Federal charter vessel/headboat permit for Gulf reef fish any time during the fishing year. This component quota is effective for only the 2015, 2016, and 2017 fishing years. For the 2018 and subsequent fishing years, the applicable total recreational quota specified in § 622.39(a)(2)(i)(A) will apply to the recreational sector.

(1) For fishing year 2015—2.964 million lb (1.344 million kg), round weight.

(2) For fishing year 2016—2.893 million lb (1.312 million kg), round weight.

(3) For fishing year 2017—2.848 million lb (1.292 million kg), round weight.

(C) Private angling component quota. The private angling component quota applies to vessels that fish under the bag limit and have not been issued a Federal charter vessel/headboat permit for Gulf reef fish any time during the fishing year. This component quota is effective for only the 2015, 2016, and 2017 fishing years. For the 2018 and subsequent fishing years, the applicable total recreational quota specified in § 622.39(a)(2)(i)(A) will apply to the recreational sector.

(1) For fishing year 2015—4.043 million lb (1.834 million kg), round weight.

(2) For fishing year 2016—3.947 million lb (1.790 million kg), round weight.

(3) For fishing year 2017—3.885 million lb (1.762 million kg), round weight.

* * * * *

5. In § 622.41, paragraph (q) is revised to read as follows:

§ 622.41 Annual catch limits (ACLs), annual catch targets (ACTs), and accountability measures (AMs).

* * * * *

(q) Red snapper—(1) Commercial sector. The IFQ program for red snapper in the Gulf of Mexico serves as the accountability measure for commercial red snapper. The commercial ACL for red snapper is equal to the applicable commercial quota specified in § 622.39(a)(1)(i).

(2) Recreational sector. (i) The AA will determine the length of the red snapper recreational fishing season based on when recreational landings are projected to reach the applicable recreational ACT specified in paragraph (q)(2)(iii) of this section, and announce the closure date in the Federal Register. This will serve as an in-season accountability measure. On and after the effective date of the recreational closure notification, the bag and possession limit for red snapper is zero. The recreational ACL is equal to the applicable total recreational quota specified in § 622.39(a)(2)(i).

(ii) In addition to the measures specified in paragraph (q)(2)(i) of this section, if red snapper recreational landings, as estimated by the SRD, exceed the applicable recreational ACL (quota) specified in § 622.39(a)(2)(i), and red snapper are overfished, based on the most recent Status of U.S. Fisheries Report to Congress, the AA will file a notification with the Office of the Federal Register to reduce the recreational ACL (quota) by the amount of the quota overage in the prior fishing year, and reduce the applicable recreational ACT specified in paragraph (q)(2)(iii) of this section (based on the buffer between the ACT and the quota specified in the FMP), unless the best scientific information available determines that a greater, lesser, or no overage adjustment is necessary.

(iii) Recreational ACT for red snapper. (A) Total recreational ACT (Federal charter vessel/headboat and private angling component ACTs combined).

(1) For fishing year 2015—5.606 million lb (2.543 million kg), round weight.

(2) For fishing year 2016—5.472 million lb (2.482 million kg), round weight.

(3) For fishing year 2017 and subsequent fishing years—5.384 million lb (2.442 million kg), round weight.

(B) Federal charter vessel/headboat component ACT. The Federal charter vessel/headboat component ACT applies to vessels that have been issued a valid Federal charter vessel/headboat permit for Gulf reef fish any time during the fishing year. This component ACT is effective for only the 2015, 2016, and 2017 fishing years. For the 2018 and subsequent fishing years, the applicable total recreational quota specified in § 622.39(a)(2)(i)(A) will apply to the recreational sector.

(1) For fishing year 2015—2.371 million lb (1.075 million kg), round weight.

(2) For fishing year 2016—2.315 million lb (1.050 million kg), round weight.

(3) For fishing year 2017—2.278 million lb (1.033 million kg), round weight.

(C) Private angling component ACT. The private angling component ACT applies to vessels that fish under the bag limit and have not been issued a Federal charter vessel/headboat permit for Gulf reef fish any time during the fishing year. This component ACT is effective for only the 2015, 2016, and 2017 fishing years. For the 2018 and subsequent fishing years, the applicable total recreational quota specified in § 622.39(a)(2)(i)(A) will apply to the recreational sector.

(1) For fishing year 2015—3.234 million lb (1.467 million kg), round weight.

(2) For fishing year 2016—3.158 million lb (1.432 million kg), round weight.

(3) For fishing year 2017—3.108 million lb (1.410 million kg), round weight.

[FR Doc. 2015-10088 Filed 4-30-15; 8:45 am]

BILLING CODE 3510-22-P